DEPARTMENT OF THE INTERIOR

Bureau of Land Management

[ID-410-1990-EX-069D-241A, DEG080007]

Notice of Intent To Prepare an Environmental Impact Statement for the Buffalo Gulch Mining Project, Cottonwood Field Office, Idaho County, ID

AGENCY: Bureau of Land Management, Interior.

ACTION: Notice of intent (NOI) to prepare an environmental impact statement.

SUMMARY: The Bureau of Land Management Cottonwood Field Office will prepare an environmental impact statement (EIS) consistent with the regulations pertaining to the National Environmental Policy Act (NEPA). Under the provisions of Section 102(2)(c) of the NEPA, the BLM announces its intentions to prepare an EIS and solicit public comments regarding issues and resource information for this project.

The BLM will analyze a proposal from Elk City Mining, LLC (ECM) to advance the Buffalo Gulch Mining Project to full scale production near Elk City, Idaho County, Idaho. This project was originally permitted in 1990 but never went into production. ECM's Plan of Operations includes an open pit mining operation and a cyanide heap leach facility to recover gold from the mined ore on their unpatented mining claims.

DATES: The public scoping period for the Buffalo Gulch Mining Project will begin with publication of this NOI and end 30 days later. The purpose of the public scoping process is to determine relevant issues that will influence the scope of the environmental analysis and EIS alternatives. BLM will ensure the public is notified of all opportunities for involvement related to this proposal at least 15 days prior to the event. A public meeting in Elk City, Idaho, and possible field trip to the project site, is scheduled for August 28, 2008. Additional information about this or additional meetings will be announced through local news media outlets, individual mailings, and the following BLM Web site: http://www.blm.gov/id/st/en/fo/cottonwood.html.

The draft EIS is expected to be distributed for public review and comment in the fall of 2009. The final EIS is expected to be completed four to six months later.

ADDRESSES: More detailed information about this project is available at the Cottonwood Field Office, 1 Butte Drive, Cottonwood, Idaho, 83522. Please submit written comments to the Cottonwood Field Office, Attn: Stephanie Connolly, at the above address. Fax comments to (208) 962-3275. (Please indicate Buffalo Gulch Mining Project Comments on the fax cover sheet.) Electronic comments can be submitted to: Buffalo_Gulch_Mine_Comments@blm.gov.

FOR FURTHER INFORMATION CONTACT: Scott Sanner, Project Leader, at (208) 769-5032 or e-mail: scott_sanner@blm.gov; or Stephanie Connolly, Cottonwood Field Office Manager, at (208) 962-3256 or e-mail: stephanie_connolly@blm.gov.

SUPPLEMENTARY INFORMATION: A Plan of Operations for the Project was submitted to the BLM by the former mine proponent, the Idaho Gold Corporation, in December, 1989. The BLM prepared an Environmental Assessment (EA) and permitted the Project in 1990 but the mine never went into production. In December, 2007, ECM informed the BLM they had gained control of the Project and intended to advance the Buffalo Gulch Mining Project to full scale production under the 1989 Plan of Operations. Since the original environmental analysis was completed over 17 years ago, there are likely new or different issues relevant today that were not previously addressed.

As proposed, the total surface area disturbed during the life of the project is anticipated to be approximately 200 acres. This estimate includes the open pit, heap leach pad, waste rock dumps, solution ponds, and other ancillary mine facilities (e.g., shop, mine office, roads, power line, etc.). Under this Plan, mining would occur for about five years with simultaneous reclamation activities. Final reclamation would be completed within six months to one year after completion of mining and leaching operations.

The Buffalo Gulch Mine—Plan of Operations (as submitted in 1989) and the Environmental Assessment for the original Plan of Operations (completed in 1990) are posted on the Internet at: http://www.blm.gov/id/st/en/fo/cottonwood.html.

On March 28 and May 16, 2008, scoping letters for the Buffalo Gulch Mining Project were mailed to known interested groups and individuals. Two public meetings were held on April 9, in Elk City, and on April 10, 2008, in Grangeville, Idaho. Based on the interdisciplinary team's knowledge of the issues, comments that have been received and other projects in this area, it has been determined that further analysis is warranted and an EIS will be prepared.

The Cottonwood Field Office is seeking information, comments, and assistance from other agencies, organizations, Tribes, and individuals who may be interested in or affected by the Proposed Action. The Cottonwood Field Office will issue local press releases notifying the public of additional opportunities to meet with staff and to discuss the project in more detail. Issues previously identified during public scoping for this project as well as comments received as a result of this Notice will be used to prepare the EIS.

Issues identified to date include the following:

• Surface and ground water contamination.

• Transportation of hazardous materials, traffic levels and safety.

• Economic and social values.

• Air quality and noise.

• Fisheries and wildlife habitat.

• Cumulative impacts of past and likely future activities in the Elk City area.

If you have specific issues or other concerns that BLM should consider in the NEPA process, please identify them in writing. You may send comments to the BLM by mail, facsimile, or electronic mail. Comments may also be hand-delivered to the Cottonwood Field Office. Before including your address, phone number, e-mail address, or other personal identifying information in your comment, you should be aware that your entire comment—including your personal identifying information—may be made publicly available at any time. While you can ask us in your comment to withhold your personal identifying information from public review, we cannot guarantee that we will be able to do so.

Dated: August 11, 2008.
Gary D. Cooper,
District Manager.

[FR Doc. E8-18906 Filed 8-14-08; 8:45 am]

BILLING CODE 4310-GG-P